DEPARTMENT OF COMMERCE

National Oceanic and Atmospheric Administration

50 CFR Part 622

[I.D. 012100C]

South Atlantic Fishery Management Council; Public Hearings; Correction

AGENCY: National Marine Fisheries Service (NMFS), National Oceanic and Atmospheric Administration, Commerce.

ACTION: Correction to notice of public hearings.

SUMMARY: This document contains corrections to the notice of public hearings pertaining to the draft options for an amendment to the Golden Crab Fishery Management Plan.

DATES: Effective February 3, 2000.

FOR FURTHER INFORMATION CONTACT: Kim Iverson, South Atlantic Fishery Management Council, One Southpark Circle, Suite 306, Charleston, SC 29407-4699; telephone: 843-571-4366; fax: 843-769-4520; E-mail address: kim.iverson@safmc.noaa.gov.

SUPPLEMENTARY INFORMATION: A notice of public hearings was published in the Federal Register on February 3, 2000, notifying the public of the hearings that would be conducted regarding draft options for an amendment to the Golden Crab Fishery Management Plan. That document misidentified the amendment, which must be corrected.

NMFS is correcting the error but is making no other change to the document.

Corrections

Under the Proposed Rules Section, South Atlantic Fishery Management Council; Public Hearings, FR Doc. 00-2404, published on February 3, 2000 (65 FR 5300), on page 5300, please correct the text “Amendment 1” to read “Amendment 3” in both places: (1) first column, last line and (2) third column, fourth line from the top.

Dated: February 11, 2000.
Bruce C. Morehead,
Acting Director, Office of Sustainable Fisheries, National Marine Fisheries Service.

[FR Doc. 00-3856 Filed 2-16-00; 8:45 am]

BILLING CODE 3510-22-F